DEPARTMENT OF AGRICULTURE

Forest Service

Wrangell-Petersburg Resource Advisory Committee; Meeting

AGENCY: Forest Service, USDA.

ACTION: Notice of meeting.

SUMMARY: The Wrangell-Petersburg Resource Advisory Committee (RAC) will meet by video-teleconference in Wrangell, Alaska and Petersburg, Alaska. The committee is authorized under the Secure Rural Schools and Community Self-Determination Act (the Act) and operates in compliance with the Federal Advisory Committee Act. The purpose of the Committee is to improve collaborative relationships and to provide advice and recommendations to the Forest Service concerning projects and funding consistent with Title II of the Act. The meeting is open to the public. The purpose of the meeting is to review progress of previously funded projects and, if the Act is reauthorized, to review project proposals and make recommendations for allocation of anticipated Title II funding to projects.

DATES: The meeting will be held on Saturday, September 28, 2013 from 8 a.m. to 12 p.m., or until business is concluded.

ADDRESSES: The meeting will be held at the Wrangell Ranger District office at 525 Bennett Street in Wrangell, Alaska, and the Petersburg Ranger District office at 12 North Nordic Drive in Petersburg, Alaska. Interested persons may attend in person at either location, or by telephone. A toll free teleconference number for those who wish to call in will be provided on request. Written comments may be submitted as described under SUPPLEMENTARY INFORMATION.

All comments, including names and addresses when provided, are placed in the record and are available for public inspection and copying. The public may inspect comments received at the Petersburg Ranger District office at 12 North Nordic Drive or the Wrangell Ranger District office at 525 Bennett Street during regular office hours (Monday through Friday 8 a.m.-4:30 p.m.).

FOR FURTHER INFORMATION CONTACT: Jason Anderson, District Ranger, Petersburg Ranger District, P.O. Box 1328, Petersburg, Alaska 99833, phone (907) 772-3871, email jasonanderson@fs.fed.us, or Robert Dalrymple, District Ranger, Wrangell Ranger District, P.O. Box 51, Wrangell, Alaska 99929, phone (907) 874-2323, email rdalrymple@fs.fed.us.

Individuals who use telecommunication devices for the deaf (TDD) may call the Federal Information Relay Service (FIRS) at 1-800-877-8339 between 8:00 a.m. and 8:00 p.m., Eastern Standard Time, Monday through Friday. Please make requests in advance for sign language interpreting, assistive listening devices or other reasonable accomodation for access to the facility or proceedings by contacting the person listed For Further Information.

SUPPLEMENTARY INFORMATION: More information on the RAC, including a full agenda, can be found online at https://fsplaces.fs.fed.us/fsfiles/unit/wo/secure_rural_schools.nsf/RAC/Wrangell-Petersburg?OpenDocument. Anyone who would like to bring related matters to the attention of the committee may file written statements with the committee staff before or after the meeting. A one-hour public input session will be provided beginning at 10:00 a.m. on September 28th. Individuals wishing to make an oral statement should request in writing by September 23rd to be scheduled on the agenda.

Written comments and requests for time for oral comments should be sent to Jason Anderson, District Ranger, Petersburg Ranger District, P.O. Box 1328, Petersburg, AK 99833; or Robert Dalrymple, District Ranger, Wrangell Ranger District, P.O. Box 51, Wrangell, AK 99929. Comments may also be sent via email to jasonanderson@fs.fed.us, or via facsimile to 907-772-5995. A summary of the meeting(s) will be posted at https://fsplaces.fs.fed.us/fsfiles/unit/wo/secure_rural_schools.nsf/RAC/Wrangell-Petersburg?OpenDocument within 21 days of the meeting.

Dated: August 26, 2013.
Jason C. Anderson,
District Ranger.

[FR Doc. 2013-21443 Filed 9-3-13; 8:45 am]

BILLING CODE 3410-11-P